NATIONAL SCIENCE FOUNDATION

Notice of Intent To Seek Approval To Establish an Information Collection

AGENCY: National Science Foundation.

ACTION: Notice and request for comments.

SUMMARY: Under the Paperwork Reduction Act of 1995, and as part of its continuing effort to reduce paperwork and respondent burden, the National Science Foundation (NSF) is inviting the general public or other Federal agencies to comment on this proposed continuing information collection.

DATES: Written comments on this notice must be received by February 5, 2024, to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

SUPPLEMENTARY INFORMATION:

Title of Collection: Systematics Scientists Community Survey.

OMB Number: 3145-NEW.

Expiration Date of Approval: Not applicable.

Type of Request: Intent to seek approval to establish information collection for better serving the systematics and biodiversity community of scientists.

Abstract: The Systematics and Biodiversity Science Cluster (SBS) of the Division of Environmental Biology (DEB) at the National Science Foundation (NSF) supports research and methods development that advances understanding of the diversity, systematics, distribution and evolutionary history of extant and extinct organisms. SBS has a longstanding commitment to support research and taxonomic capacity building across the breadth of life on earth.

SBS requests the Office of Management and Budget (OMB) approval to initiate a new survey that will capture the current state of systematic research in the U.S. across subdisciplines, taxonomic groups, and scientific training and ranks.

Use of the Information: Individual survey responses will not be identifiable to the respondent. Aggregate results from the survey will be analyzed and summarized for internal SBS use. The data collected and analyzed will be used for program planning, management, and evaluation purposes. Analyzed data in aggregate may be used in a white paper reporting on the state of systematics science in the U.S. These data are needed for effective administration, program monitoring, evaluation, and for strategic planning within SBS.

Expected Respondents: The respondents will be scientists that self-identify as systematists.

Estimate of Burden

Estimates of Annualized Cost to Respondents for the Hour Burdens

The overall annualized cost to the respondents is estimated to be $6,730. The following table shows the estimated burden and costs to respondents, who are generally biologists at the postsecondary level. This estimated hourly rate is based on a report from the Bureau of Labor Statistics' Occupational Employment and Wages, May 2021).¹ According to this report, the median hourly rate is $33.65.

¹ https://www.bls.gov/oes/current/oes251021.htm.

Collection title | Total number of respondents | Burden hours per respondent | Total hour burden | Average hourly rate | Estimated cost
Survey of Systematists | 800 | .25 | 200 | $33.65 | $6,730
Total | 800 |  | 200 |  | 6,730

Estimated Number of Responses per Report

Survey requests will be sent to members of all North American scientific societies to which systematists belong. The total number of systematists employed in the U.S. is not known but estimated that ca. 800 will respond.

Dated: November 29, 2023.
Suzanne H. Plimpton,
Reports Clearance Officer, National Science Foundation.

[FR Doc. 2023-26588 Filed 12-4-23; 8:45 am]

BILLING CODE 7555-01-P